DEPARTMENT OF HEALTH AND HUMAN SERVICES

Centers for Disease Control and Prevention

World Trade Center Health Program Scientific/Technical Advisory Committee (WTCHP-STAC)

Correction: This notice was published in the Federal Register on June 21, 2013, Volume 78, Number 120, Page 37543. The name of the committee was inadvertently stated as Board of Scientific Counselors, National Center for Injury Prevention and Control, (BSC, NCIPC) and the name of the Committee should read World Trade Center Health Program Scientific/Technical Advisory Committee (WTCHP-STAC),

Contact Person for More Information: Paul Middendorf, Senior Health Scientist, 1600 Clifton Rd. NE., MS: E-20, Atlanta, GA 30329; telephone (404) 498-2548 (this is not a toll-free number); email: pmiddendorf@cdc.gov.

The Director, Management Analysis and Services Office, has been delegated the authority to sign Federal Register notices pertaining to announcements of meetings and other committee management activities, for both the Centers for Disease Control and Prevention, and Agency for Toxic Substances and Disease Registry.

Elaine L. Baker,
Director, Management Analysis and Services Office Centers for Disease Control and Prevention.

[FR Doc. 2013-15455 Filed 6-27-13; 8:45 am]

BILLING CODE 4163-18-P